DEPARTMENT OF COMMERCE

International Trade Administration

U.S. Healthcare Education Trade Mission to New Delhi, Hyderabad, and Ahmedabad, India, January 27-February 1, 2014; Correction

AGENCY: International Trade Administration, Department of Commerce.

ACTION: Notice cancellation.

SUMMARY: The United States Department of Commerce, International Trade Administration, U.S. and Foreign Commercial Service published a document in the Federal Register of November 13, 2013 regarding the U.S. Healthcare Education Trade Mission to New Delhi, Hyderabad, and Ahmedabad, India, January 27-February 1, 2014. This mission has been cancelled. Please update the existing notice with a note that this mission is cancelled as of December 10, 2013.

Cancellation Notice

In the Federal Register of July 16, 2013, in 78 FR 42505, title, note a top of page, correct the subject heading of the notice to read:

U.S. Healthcare Education Trade Mission to New Delhi, Hyderabad, and Ahmedabad, India, January 27-February 1, 2014 has been cancelled.

FOR FURTHER INFORMATION CONTACT: Koreen M. Grube, International Trade Specialist, Milwaukee U.S. Export Assistance Center, International Trade Administration, U.S. Department of Commerce Tel: 414-297-1853 Koreen.Grube@trade.gov.

Elnora Moye,
Trade Program Assistant.

[FR Doc. 2013-30239 Filed 12-18-13; 8:45 am]

BILLING CODE 3510-DS-P